DEPARTMENT OF AGRICULTURE

Office of the Secretary

Notice of Establishment of New Advisory Committee and Solicitation for Nomination to the Research, Education, and Economics Task Force

AGENCY: Agricultural Research Service, United States Department of Agriculture.

ACTION: Establishment and Solicitation for Nominations.

SUMMARY: In accordance with the Federal Advisory Committee Act, 5 U.S.C. App. II, the United States Department of Agriculture announces the establishment of the Research, Education, and Economics Task Force and the solicitation for nominations to fill the 8 membership positions.

DATES: Deadline for Task Force member nominations is August 30, 2002.

ADDRESSES: Address all nominations to Marshall Tarkington, U.S. Department of Agriculture, Agricultural Research Service, 1400 Independence Avenue SW., 351-A Jamie Whitten Building, Washington, DC 20250 or fax the information to 202-720-6882.

FOR FURTHER INFORMATION CONTACT: Marshall Tarkington, 202-720-3173.

SUPPLEMENTARY INFORMATION: Sec. 7404 of the Farm Security and Rural Investment Act of 2002, Pub. L. 107-171, authorized the creation of a Task Force comprised of 8 members, primarily from the private sector and having broad-based background in plant, animal, and agricultural sciences research, food, nutrition, biotechnology, crop production methods, environmental science, or related disciplines. The members must also be familiar with the role and infrastructure used to conduct Federal and private research, including the Agricultural Research Service; the National Institutes of Health; the National Science Foundation; the National Aeronautics and Space Administration; the Department of Energy laboratory system; or the Cooperative State Research, Education, and Extension Service. Nominees will be carefully reviewed for their broad expertise, leadership, and relevance to this criteria. Additional information regarding the Task Force mandate and membership is in the attached charter.

Nominations are being accepted from individuals, organizations, associations, societies, councils, federations, groups, and companies that represent a wide variety of food and agricultural interests. Please indicate the specific qualification(s) for each nominee. Each nominee must fill out a form AD-755, “Advisory Committee Membership Background Information”, which can be obtained on the following web link: (http://www.ars.usda.gov/newla/ree_task.html). Each nomination submission must include the nominee's name, resume, and completed AD-755. Incomplete nomination documentation will not be considered and all nominations will be vetted before selection by the Secretary.

Dated: August 6, 2002.
Edward B. Knipling,
Acting Administrator.

[FR Doc. 02-20467 Filed 8-12-02; 8:45 am]

BILLING CODE 3410-22-P